COMMITTEE FOR PURCHASE FROM PEOPLE WHO ARE BLIND OR SEVERELY DISABLED

Procurement List; Proposed Deletions

AGENCY: Committee for Purchase From People Who Are Blind or Severely Disabled.

ACTION: Proposed Deletions from Procurement List.

SUMMARY: The Committee is proposing to delete a product and services previously furnished by nonprofit agencies employing persons who are blind or have other severe disabilities.

Comments Must be Received on or Before: April 30, 2006.

ADDRESSES: Committee for Purchase From People Who Are Blind or Severely Disabled, Jefferson Plaza 2, Suite 10800, 1421 Jefferson Davis Highway, Arlington, Virginia, 22202-3259.

For Further Information or to Submit Comments Contact: Sheryl D. Kennerly, Telephone: (703) 603-7740, Fax: (703) 603-0655, or e-mail SKennerly @jwod.gov.

SUPPLEMENTARY INFORMATION: This notice is published pursuant to 41 U.S.C 47(a) (2) and 41 CFR 51-2.3. Its purpose is to provide interested persons an opportunity to submit comments on the proposed actions.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the product and services to the Government.

3. There are no known regulatory alternatives which would accomplish the objectives of the Javits-Wagner-O'Day Act (41 U.S.C. 46-48c) in connection with the product and services proposed for deletion from the Procurement List.

End of Certification

The following products and services are proposed for deletion from the Procurement List:

Product

PRODUCT/NSN: Computer Accessories.

NSN: 7045-01-483-7838—Comfort Wrist Mouse Pad.

NPA: Wiscraft Inc.—Wisconsin Enterprises for the Blind, Milwaukee, Wisconsin.

Contracting Activity: Office Supplies & Paper Products Acquisition Center, New York, NY.

Services

Service Type/Location: Base Supply Center, Brooks Air Force Base, Texas.

NPA: San Antonio Lighthouse for the Blind, San Antonio, Texas.

Contracting Activity: Department of the Air Force.

Service Type/Location: Base Supply Center, Defense Supply Service—Washington, Skyline #3, 5109 Leesburg Pike, Alexandria, Virginia.

NPA: Virginia Industries for the Blind, Charlottesville, Virginia.

Contracting Activity: Defense Supply Service, Washington DC.

Service Type/Location: Food Service, U.S. Property and Fiscal Officer, Wisconsin, Wisconsin Military Academy, 90 S 10th Avenue, Fort McCoy, Wisconsin.

NPA: Challenge Unlimited, Inc., Alton, Illinois.

Contracting Activity: U.S. Property and Fiscal Officer for Wisconsin, Camp Douglas, Wisconsin.

G. John Heyer,
General Counsel.

[FR Doc. E6-4692 Filed 3-30-06; 8:45 am]

BILLING CODE 6353-01-P